DEPARTMENT OF COMMERCE

National Oceanic and Atmospheric Administration

[I.D. 041107A]

Marine Mammals; File No. 1079-1828

AGENCY: National Marine Fisheries Service (NMFS), National Oceanic and Atmospheric Administration (NOAA), Commerce.

ACTION: Notice; receipt of application.

SUMMARY: Notice is hereby given that NOAA Fisheries Office of Science and Technology (Principal Investigator: Dr. Brandon Southall), Silver Spring, MD, has applied in due form for a permit to conduct scientific research on marine mammals.

DATES: Written, telefaxed, or e-mail comments must be received on or before May 17, 2007.

ADDRESSES: The application and related documents are available for review upon written request or by appointment in the following office(s):

Permits, Conservation and Education Division, Office of Protected Resources, NMFS, 1315 East-West Highway, Room 13705, Silver Spring, MD 20910; phone (301)713-2289; fax (301)427-2521; http://www.nmfs.noaa.gov/pr/permits/review.htm; and

Southeast Region, NMFS, 263 13th Avenue South, Saint Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1079-1828.

FOR FURTHER INFORMATION CONTACT: Tammy Adams or Jolie Harrison, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to observe behavioral responses in several deep-diving cetacean species exposed to natural and artificial underwater sounds and quantify exposure conditions associated with various effects. These behavioral response studies (BRS) would focus on beaked whales (Ziphius cavirostris and Mesoplodon spp.), but the responses of other odontocete species, including Risso's dolphins (Grampus griseus), pilot whales (Globicephala macrorhynchus), melon-headed whales (Peponocephala electra), and endangered sperm whales (Physeter macrocephalus), may also be monitored. Please refer to Table IV.C.2-1 of the application for a complete list of cetacean species that may be indirectly harassed during the BRS. The BRS would be conducted in the Tongue of the Ocean (east of Andros Island, Bahamas). During the BRS, subject whales would have scientific instruments (digital archival recording tags) temporarily attached via suction cup, be photographed for identification, and be exposed to controlled levels of natural and anthropogenic underwater sounds, including signals simulating mid-frequency sonar. Whales would be monitored visually and through passive acoustic monitoring (via an underwater hydrophone array), as well as through data from the tags, for responses to the sounds. Sloughed skin samples collected from the detached suction cup would be imported into the U.S. for analysis. The permit would be valid for a maximum of 5 years from date of issuance.

A draft Environmental Assessment (EA) has been prepared to examine whether significant environmental impacts could result from issuance of the proposed scientific research permit. The draft EA is available for review and comment simultaneous with the scientific research permit application.

Concurrent with the publication of this notice in the Federal Register, NMFS is forwarding copies of this application to the Marine Mammal Commission and its Committee of Scientific Advisors.

Dated: April 11, 2007.
P. Michael Payne,
Chief, Permits, Conservation and Education Division, Office of Protected Resources, National Marine Fisheries Service.

[FR Doc. E7-7294 Filed 4-16-07; 8:45 am]

BILLING CODE 3510-22-S